DEPARTMENT OF THE TREASURY

Office of the Comptroller of the Currency

FEDERAL DEPOSIT INSURANCE CORPORATION

Agency Information Collection Activities; Information Collection Renewal; Submission for OMB Review; Basel II Interagency Supervisory Guidance for the Supervisory Review Process (1557-0242; 3064-0165)

AGENCY: Office of the Comptroller of the Currency, Treasury (OCC) and Federal Deposit Insurance Corporation (FDIC) (collectively, the agencies).

ACTION: Notice.

SUMMARY: The agencies, as part of their continuing effort to reduce paperwork and respondent burden, invite the general public and other Federal agencies to comment on a continuing information collection, as required by the Paperwork Reduction Act of 1995 (PRA). An agency may not conduct or sponsor, and a respondent is not required to respond to, an information collection unless it displays a currently valid Office of Management and Budget (OMB) control number. The agencies are soliciting comment concerning the renewal of their information collection titled “Basel II Interagency Supervisory Guidance for the Supervisory Review Process (Pillar 2),” and giving notice that they are sending the collection to OMB for review.

DATES: Comments must be received by October 23, 2014.

ADDRESSES: Comments should be addressed to:

OCC: Because paper mail in the Washington, DC area and at the OCC is subject to delay, commenters are encouraged to submit comments by email if possible. Comments may be sent to: Legislative and Regulatory Activities Division, Office of the Comptroller of the Currency, Attention: 1557-0242, 400 7th Street SW., Suite 3E-218, Mail Stop 9W-11, Washington, DC 20219. In addition, comments may be sent by fax to (571) 465-4326 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

FDIC: You may submit comments by any of the following methods:

• Agency Web site: http://www.fdic.gov/regulations/laws/federal/. Follow instructions for submitting comments on the Agency Web site.

• Email: Comments@FDIC.gov. Include “Basel II Supervisory Guidance, 3064-0165” in the subject line of the message.

• Mail: Robert E. Feldman, Executive Secretary, Attention: Comments, Federal Deposit Insurance Corporation, 550 17th Street NW., Washington, DC 20429.

• Hand Delivery/Courier: Guard station at the rear of the 550 17th Street Building (located on F Street) on business days between 7 a.m. and 5 p.m. (EST).

• Federal eRulemaking Portal: http://www.regulations.gov. Follow the instructions for submitting comments.

• Public Inspection: All comments received will be posted without change to http://www.fdic.gov/regulations/laws/federal including any personal information provided.

Additionally, please send a copy of your comments by mail to: OCC/FDIC Desk Officer, 1557-0242 and 3064-0165, U.S. Office of Management and Budget, 725 17th Street NW., #10235, Washington, DC 20503, or by email to: oira submission@omb.eop.gov.

FOR FURTHER INFORMATION CONTACT: OCC: Johnny Vilela or Mary H. Gottlieb, OCC Clearance Officers, (202) 649-5490, for persons who are deaf or hard of hearing, TTY, (202) 649-5597, Legislative and Regulatory Activities Division, Office of the Comptroller of the Currency, 400 7th Street SW., Suite 3E-218, Mail Stop 9W-11, Washington, DC 20219.

FDIC: Gary A. Kuiper, Counsel, (202) 898-3719, Legal Division, Federal Deposit Insurance Corporation, NYA-5046, 550 17th Street NW., Washington, DC 20429.

SUPPLEMENTARY INFORMATION: In accordance with the requirements of the PRA, the Agencies may not conduct or sponsor, and the respondent is not required to respond to, an information collection unless it displays a currently valid OMB control number. The Agencies are requesting comment on a continuing information collection.

The agencies published a notice for 60 days of comment on June 9, 2014 (79 FR 33039). No comments were received. Comments continue to be invited on:

(a) Whether the collection of information is necessary for the proper performance of the Agencies' functions, including whether the information has practical utility;

(b) The accuracy of the estimates of the burden of the information collection, including the validity of the methodology and assumptions used;

(c) Ways to enhance the quality, utility, and clarity of the information to be collected;

(d) Ways to minimize the burden of the information collection on respondents, including through the use of automated collection techniques or other forms of information technology; and

(e) Estimates of capital or start up costs and costs of operation, maintenance, and purchase of services to provide information.

Title of Information Collection: Basel II Interagency Supervisory Guidance for the Supervisory Review Process (Pillar 2).

OMB Control Numbers:

OCC: 1557-0242.

FDIC: 3064-0165.

Frequency of Response: Event-generated.

Affected Public:

OCC: National banks and Federal savings associations.

FDIC: Insured state nonmember banks and certain subsidiaries of these entities.

Abstract: The agencies issued a supervisory guidance document for implementing the supervisory review process (Pillar 2) on July 31, 2008 (73 FR 44620). Sections 37, 41, 43, and 46 of the guidance impose information collection requirements on financial institutions, including national banks and Federal savings associations, which are collectively defined in the guidance as banks. Section 37 states that banks should state clearly the definition of capital used in any aspect of its internal capital adequacy assessment process (ICAAP) and document any changes in the internal definition of capital. Section 41 requires banks to maintain thorough documentation of ICAAP. Section 43 specifies that boards of directors must approve the bank's ICAAP, review it on a regular basis, and approve any changes. Boards of directors also are required under section 46 to periodically review the assessment of overall capital adequacy and to analyze how measures of internal capital adequacy compare with other capital measures (such as regulatory or accounting).

Estimated Burden:

OCC:

Number of Respondents: 26.

Estimated Burden per Respondent: 140 hours.

Total Estimated Annual Burden: 3,640 hours.

FDIC:

Number of Respondents: 8.

Estimated Burden per Respondent: 420 hours.

Total Estimated Annual Burden: 3,360 hours.

Dated: September 18, 2014.
Stuart E. Feldstein,
Director, Legislative & Regulatory Activities Division, Office of the Comptroller of the Currency.
Dated at Washington, DC, the 12th day of September 2014.
Federal Deposit Insurance Corporation.
Robert E. Feldman,
Executive Secretary.

[FR Doc. 2014-22587 Filed 9-22-14; 8:45 am]

BILLING CODE 4810-33-P; 6714-01-P